DEPARTMENT OF HOMELAND SECURITY

Transportation Security Administration

[Docket No. TSA-2004-19605]

Hazardous Materials Endorsement (HME) Threat Assessment Program Security Threat Assessment Fees for Non-Agent States

AGENCY: Transportation Security Administration, DHS.

ACTION: Notice.

SUMMARY: The Transportation Security Administration (TSA) administers the Hazardous Materials Endorsement (HME) vetting program. TSA conducts a security threat assessment (STA) of HME applicants in accordance with statutory requirements and collects fees to recover TSA's costs to conduct the STA and administer the program. Some States have elected to collect the information and fees from the applicant directly, and transmit such information and fees to TSA for the STA. In this notice, TSA announces that the fee to conduct the STA for these States will be increased to fully recover the costs to administer the program.

DATES: The fee changes in this notice are effective December 2, 2024.

FOR FURTHER INFORMATION CONTACT: Julie Labra, Transportation Security Administration, 6595 Springfield Center Drive, Springfield, VA 20598-6047; 240-568-5698; or email at HME.Question@tsa.dhs.gov.

SUPPLEMENTARY INFORMATION:

You can find an electronic copy of this rulemaking using the internet by accessing the Government Publishing Office's web page at https://www.govinfo.gov/app/collection/FR/ to view the daily published Federal Register edition or accessing the Office of the Federal Register's web page at https://www.federalregister.gov. Copies are also available by writing or calling the individual in the FOR FURTHER INFORMATION CONTACT section, or by email at HME.Question@tsa.dhs.gov.

Abbreviations and Terms Used in This Document

CDL—Commercial Driver's License

HME—Hazardous Materials Endorsement

STA—Security Threat Assessment

TWIC—Transportation Workers Identification Credential

I. HME Program

Background

Under 49 U.S.C. 5103a, a State is prohibited from issuing or renewing an HME for a commercial driver's license (CDL) unless TSA has first determined that the driver does not pose a security threat. To make this security determination, TSA conducts an STA by comparing applicant biographic and biometric information to criminal, immigration, and security databases, and adjudicating any derogatory information against the standards set forth in 49 CFR part 1572. If TSA determines the individual meets the STA standards, TSA notifies the State, and the State may issue the HME. TSA is required to recover its vetting program costs through user fees, in accordance with 6 U.S.C. 469, and consequently, TSA collects fees from applicants during the STA process.

Under TSA's regulations, States may collect and transmit the fingerprints and applicant information from drivers who apply to obtain or renew an HME; or elect to use TSA's agent to collect and transmit the information and fees for the STA.¹ States that use TSA's agent to collect and transmit information and fees are known as Agent States. Current Agent States include 42 states and the District of Columbia. Applicants in these Agent States pay a fee to cover the cost of (1) collecting and transmitting the information and fees to TSA; (2) TSA's completion of the STA and any related redress; and, (3) the Federal Bureau of Investigation fee to process the criminal check.²

¹ See 49 CFR 1572.15.

² See 70 FR 2542 (Jan. 13, 2005).

States that choose to collect applicant information and submit it to TSA are known as Non-Agent States. There are currently eight Non-Agent States.³ Applicants in these States provide their information and TSA's fees to the State Department of Motor Vehicles (DMV), and the State transmits the information and fees to TSA. Applicants in these Non-Agent States pay the fee for TSA to conduct the STA and the FBI fee to process the criminal history checks. Non-Agent States also may charge applicants a State fee for its costs to collect and transmit information, and TSA has no authority to establish, determine, or limit the amount of that fee.

³ The eight Non-Agent states include Florida, Kentucky, Maryland, New York, Pennsylvania, Texas, Virginia, and Wisconsin, at the time of this publication.

HME Fee Changes for Non-Agent States

In this notice, TSA is announcing that the fee to Non-Agent States will be increased to recover TSA's costs to process these applications. Under TSA's regulations, TSA may revise fees for the STA by publishing a notice in the Federal Register.⁴

⁴ See 49 CFR 1572.403(a)(2).

TSA reviews the costs associated with conducting STAs at least once every 2 years.⁵ Upon review, TSA will adjust the fee if the agency finds that the fees collected exceed the total cost to provide the services or do not cover the total costs for services. Fees are influenced by several factors, including changes in contractual services, personnel costs, and operations and maintenance costs.

⁵ See 31 U.S.C. 3512 (the Chief Financial Officers Act of 1990 (Pub. L. 101-576, 104).

In 2022, TSA analyzed the costs associated with the HME Non-Agent State STAs and found that the current fees to process these applications do not cover TSA's costs. The fees TSA charges the Non-Agent States have not been revised since 2005, and many recent information technology and customer service improvements, and increased contract costs have not been accounted for in the fees. Also, the Non-Agent State submissions require TSA to expend additional program oversight, case management, and manual intervention to ensure that the biographic information is attached to the correct biometric information. Consequently, TSA has had to hire more staff to accurately process these submissions.

Based on this analysis, TSA determined that the fees for TSA's processing the Non-Agent State STAs need to be increased from $34.00 per application to $57.25 per application for standard STAs in order to comply with 6 U.S.C. 469 and recoup vetting costs. Similarly, for STAs in which the applicant has already completed a comparable STA and does not need to undergo the full standard STA, the reduced fee needs to increase from $29.00 to $31.00.⁶ These increases ensure that fees collected by TSA in both Agent State and Non-Agent States are consistent to cover costs associated with commercial driver vetting, adjudication, and customer service.

⁶ In accordance with 49 CFR 1572.5(e), TSA has determined that the STA for HME is comparable to the STA for Transportation Workers Identification Credential (TWIC®). Non-Agent States may offer a “reduced or comparable fee” if the applicant maintains a valid TWIC®.

II. Calculation of Fees

As discussed above, Congress directed TSA to collect user fees to cover the costs of its transportation vetting and credentialing programs.⁷ TSA must collect fees to pay for conducting all portions of an STA, including adjudicating the vetting results; administering the redress process, including requests for correction of records, appeals, and waivers; information technology development and maintenance; personnel; billing and collections; and any other costs related to administering the STA. The statute requires that any fee collected must be used only to pay for the costs incurred in providing services associated with the STA. The funds generated by the fee do not have a limited period of time in which they must be used; as fee revenue and service costs do not always match perfectly for a given period, a program may need to carry over funding from one fiscal year to the next to ensure that sufficient funds are available to continue normal program operations. TSA complies with applicable requirements, such as the Chief Financial Officers Act of 1990 ⁸ and Office of Management and Budget Circular A-25,⁹ and regularly reviews the fees to ensure they recover, but do not exceed, the full cost of services.

⁷ See 6 U.S.C. 469(a).

⁸ See 31 U.S.C. 501 et seq.

⁹ See OMB Circulars a-25.

TSA established the methodology for calculating the vetting fees for the HME program were explained in detail in the preamble to the HME Fees Final Rule.¹⁰ In finalizing these HME methodologies, TSA considered comments from individual commercial drivers; labor organizations; trucking industry associations; State Departments of Motor Vehicles; associations representing the agricultural, chemical, explosives, maritime, and petroleum industries; and associations representing State governments. TSA has not changed the methodologies for determining these fees. TSA used that same methodology to evaluate the current HME fees and establish new fee amounts. See the Fee Development Report posted in the docket for additional details.

¹⁰ See 70 FR 2542 (Jan. 13, 2005).

The new HME fees for STA applications for Non-Agent States are set forth below.

Table—Comparison of Current and New HME Fees for Non-Agent States by Enrollment Type
Non-agent state | Standard fee: Current | Standard fee: New | Reduced fee: Current | Reduced fee: New
| $ 34.00 | $ 57.25 | $ 29.00 | $ 31.00

Applicants in Non-Agent States may also have to pay the fee the State has established to recover its costs to collect and transmit information and fees to TSA.

Dated: August 23, 2024.
Chad M. Gorman,
Deputy Executive Assistant Administrator, Operations Support.

[FR Doc. 2024-19412 Filed 8-28-24; 8:45 am]

BILLING CODE 9110-05-P